DEPARTMENT OF AGRICULTURE

National Agricultural Statistics Service

Notice of Intent To Reduce the Frequency of Chemical Use Surveys and All Associated Reports

AGENCY: National Agricultural Statistics Service, USDA.

ACTION: Notice of reduction in data collection and publication.

SUMMARY: This notice announces the intention of the National Agricultural Statistics Service (NASS) to reduce the currently approved information collections for chemical use surveys approved under OMB # 0535-0218. The chemical use surveys included in this docket are: Agricultural Resource Management Survey Phase II (ARMS II), Vegetable Chemical Use Survey, Fruit Chemical Use Survey, and Post Harvest Chemical Use Survey. The Post Harvest survey was suspended under a previous notice.

The ARMS II Chemical Use Survey is normally conducted every year and it consists of two versions; Production Practices and Costs Report (PPCR), and the Production Practices Report (PPR). The PPR component is conducted with NASS-only funding to gather field crop chemical use data. The PPCR is co-funded by a cooperative agreement with the USDA Economic Research Service (ERS). The PPCR component efficiently collects costs associated with the various production practices to complete the cost of production estimates for ARMS targeted crop commodities. The ARMS Phase II-PPCR efficiently collects detailed cropping practice and cost data by focusing on field-level and expanding to whole farm, thus greatly reducing respondent burden while maintaining accuracy of reported data.

For the 2011 crop year, NASS is making no changes to the Fruit Chemical Use survey and Field Crops Chemical Use survey. Barley and sorghum are the targeted crops for Field Crops Chemical Use survey. Please note that wheat and soybeans were originally in the 2011 crop year but were moved to 2012 crop year due to current budget cuts.

Background Information

Crop year | NASS commodity | ERS commodity (PPCR)
2011 | Fruit | Barley, Sorghum.
2012 | Wheat (PPR) and Soybeans | Soybeans.
2013 | Vegetable | Rice and Peanuts.
2014 | Cotton | Cotton.
2015 | Corn and Potatoes (PPR) | To be determined (Corn and Dairy).
2016 | Fruit | To be determined (Wheat).
2017 | Wheat (PPR) and Soybeans | To be determined (Soybeans).
2018 | Corn and Potatoes | To be determined.
2019 | Vegetable | To be determined.
2020 | Cotton | To be determined.

The crop rotations were determined using the current long range data collection plan. Each of the field crops will be collected three times during the 10 year plan except cotton which will be collected only twice. With the current plan, each commodity would be collected five times. With the proposed crop rotation, fruit and vegetables chemical use would each be collected twice in the 10 year plan while currently the data would be collected five times each.

FOR FURTHER INFORMATION CONTACT: Joseph T. Reilly, Associate Administrator, National Agricultural Statistics Service, U.S. Department of Agriculture, (202) 720-4333, or through the NASS OMB Clearance Officer at ombofficer@nass.usda.gov.

SUPPLEMENTARY INFORMATION: Title: Reduction in the Frequency of the Chemical Use Surveys Currently Approved.

OMB Control Numbers: 0535-0218.

Expiration Dates of Approval: December 31, 2011.

Type of Request: To reduce the frequency of some of the chemical use surveys currently approved, along with the resulting publications.

Abstract: The primary functions of the National Agricultural Statistics Service include the collection of data and the preparation and issuance of state and national estimates of crop and livestock production, disposition, prices, and environmental and economic factors.

Timeline: NASS will suspend this information collection as of November 17, 2011 due to budget constraints. NASS will not issue any publications that would normally be generated from any of the suspended chemical use surveys, unless there is a change in the anticipated budget shortfall.

Authority: These data were collected under authority of 7 U.S.C. 2204(a) (General Duties of the Secretary of Agriculture). Individually identifiable data collected under this authority are governed by Section 1770 of the Food Security Act of 1985, 7 U.S.C. 2276, which requires USDA to afford strict confidentiality to non-aggregated data provided by respondents.

Estimate of Burden: There will be no further public reporting burden for this collection of information.

Signed at Washington, DC, October 25, 2011.
Joseph T. Reilly,
Associate Administrator.

[FR Doc. 2011-29743 Filed 11-16-11; 8:45 am]

BILLING CODE 3410-20-P